DEPARTMENT OF STATE

[Public Notice: 6613]

Notice of Request for Public Comment and Submission to OMB of Proposed Collection of Information

Title: 30-Day Notice of Proposed Information Collection: DS-260, Electronic Application for Immigrant Visa and Alien Registration, OMB Control Number 1405-XXXX.

ACTION: Notice of request for public comment and submission to OMB of proposed collection of information.

SUMMARY: The Department of State has submitted the following information collection request to the Office of Management and Budget (OMB) for approval in accordance with the Paperwork Reduction Act of 1995.

• Title of Information Collection: Electronic Application for Immigrant Visa and Alien Registration.

• OMB Control Number: None.

• Type of Request: New Collection.

• Originating Office: Department of State, Bureau of Consular Affairs, Visa Services.

• Form Number: DS-260.

• Respondents: Aliens applying for an immigrant visa.

• Estimated Number of Respondents: 700,000.

• Estimated Number of Responses: 700,000.

• Average Hours per Response: 120 minutes (2 hours).

• Total Estimated Burden: 1,400,000 hours per year.

• Frequency: Once per respondent.

• Obligation to Respond: Required or Obtain or Retain a Benefit.

DATES: Submit comments to the Office of Management and Budget (OMB) for up to 30 days from May 13, 2009.

ADDRESSES: Direct comments and questions to Katherine Astrich, the Department of State Desk Officer in the Office of Information and Regulatory Affairs at the Office of Management and Budget (OMB), who may be reached at 202-395-4718. You may submit comments by any of the following methods:

• E-mail: kastrich@omb.eop.gov. You must include the DS form number, information collection title, and OMB control number in the subject line of your message.

• Mail (paper, disk, or CD-ROM submissions): Office of Information and Regulatory Affairs, Office of Management and Budget, 725 17th Street, NW., Washington, DC 20503.

• Fax: 202-395-6974.

FOR FURTHER INFORMATION CONTACT: You may obtain copies of the proposed information collection and supporting documents from Andrea B. Lage, Visa Services, U.S. Department of State, 2401 E. Street, NW., L-603, Washington, DC 20522, who may be reached at (202) 663-1399.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of proposed collection:

Form DS-260 will be used to elicit information necessary to determine the eligibility of aliens applying for immigrant visas.

Methodology:

The DS-260 will be submitted electronically to the Department via the Internet. The applicant will be instructed to print a confirmation page containing a 2-D bar code record locator, which will be scanned at the time of processing. Applicants who submit the electronic application will no longer submit paper-based applications to the Department.

Dated: April 29, 2009.
David T. Donahue,
Deputy Assistant Secretary, Department of State.

[FR Doc. E9-11178 Filed 5-12-09; 8:45 am]

BILLING CODE 4710-06-P